DEPARTMENT OF COMMERCE

International Trade Administration

[A-583-831]

Stainless Steel Sheet and Strip in Coils from Taiwan: Preliminary Results of Antidumping Duty Administrative Review and Preliminary Determination of No Shipments; 2021-2022

AGENCY: Enforcement and Compliance, International Trade Administration, Department of Commerce.

SUMMARY: The U.S. Department of Commerce (Commerce) preliminarily determines that sales of stainless steel sheet and strip in coils (SSSSC) from Taiwan have been made at less than normal value during the period of review (POR), July 1, 2021, through June 30, 2022. Additionally, Commerce preliminarily determines that four companies for which we initiated a review had no shipments during the POR. Interested parties are invited to comment on these preliminary results.

DATES: Applicable April 6, 2023.

FOR FURTHER INFORMATION CONTACT: Andrew Hart or Alice Maldonado, AD/CVD Operations, Office II, Enforcement and Compliance, International Trade Administration, U.S. Department of Commerce, 1401 Constitution Avenue NW, Washington, DC 20230; telephone: (202) 482-1058 or (202) 482-4682, respectively.

SUPPLEMENTARY INFORMATION:

Background

Commerce is conducting an administrative review of the antidumping duty order on SSSSC from Taiwan.¹ On July 1, 2022, Commerce published in the Federal Register a notice of opportunity to request an administrative review of the Order.² The notice of initiation of this administrative review was published on September 6, 2022.³ This review covers 61 producers and/or exporters of the subject merchandise. Commerce selected two companies, Lien Kuo Metal Industries Co., Ltd. (Lien Kuo) and S More Steel Materials Co., Ltd. (S More) for individual examination.⁴ The producers and/or exporters not selected for individual examination are listed in the “Preliminary Results of the Review” section of this notice.

¹ See Notice of Antidumping Duty Order; Stainless Steel Sheet and Strip in Coils from United Kingdom, Taiwan, and South Korea, 64 FR 40555 (July 27, 1999) (Order).

² See Antidumping or Countervailing Duty Order, Finding, or Suspended Investigation; Opportunity to Request Administrative Review and Join Annual Service List, 87 FR 39461 (July 1, 2022).

³ See Initiation of Antidumping and Countervailing Duty Administrative Reviews, 87 FR 54463 (September 6, 2022) (Initiation Notice).

⁴ See Memorandum, “Respondent Selection,” dated October 7, 2022.

For a complete description of the events that followed the initiation of this review, see the Preliminary Decision Memorandum.⁵

⁵ See Memorandum, “Decision Memorandum for the Preliminary Results of the 2021-2022 Administrative Review of the Antidumping Duty Order on Stainless Steel Sheet and Strip in Coils from Taiwan,” dated concurrently with, and hereby adopted by, this notice (Preliminary Decision Memorandum).

Scope of the Order

The merchandise subject to the Order are certain stainless steel sheet and strip in coils. Stainless steel is an alloy steel containing, by weight, 1.2 percent or less of carbon and 10.5 percent or more of chromium, with or without other elements. The subject sheet and strip is a flat-rolled product in coils that is greater than 9.5 mm in width and less than 4.75 mm in thickness, and that is annealed or otherwise heat treated and pickled or otherwise descaled. The subject sheet and strip may also be further processed (e.g., cold-rolled, polished, aluminized, coated, etc.) provided that it maintains the specific dimensions of sheet and strip following such processing. The products subject to the Order are classified in the Harmonized Tariff Schedule of the United States (HTSUS) statistical reporting numbers 7219.13.00.31, 7219.13.00.51, 7219.13.00.71, 7219.13.00.81, 7219.14.00.30, 7219.14.00.65, 7219.14.00.90, 7219.32.00.05, 7219.32.00.20, 7219.32.00.25, 7219.32.00.35, 7219.32.00.36, 7219.32.00.38, 7219.32.00.42, 7219.32.00.44, 7219.33.00.05, 7219.33.00.20, 7219.33.00.25, 7219.33.00.35, 7219.33.00.36, 7219.33.00.38, 7219.33.00.42, 7219.33.00.44, 7219.34.00.05, 7219.34.00.20, 7219.34.00.25, 7219.34.00.30, 7219.34.00.35, 7219.35.00.05, 7219.35.00.15, 7219.35.00.30, 7219.35.00.35, 7219.90.00.10, 7219.90.00.20, 7219.90.00.25, 7219.90.00.60, 7219.90.00.80, 7220.12.10.00, 7220.12.50.00, 7220.20.10.10, 7220.20.10.15, 7220.20.10.60, 7220.20.10.80, 7220.20.60.05, 7220.20.60.10, 7220.20.60.15, 7220.20.60.60, 7220.20.60.80, 7220.20.70.05, 7220.20.70.10, 7220.20.70.15, 7220.20.70.60, 7220.20.70.80, 7220.20.80.00, 7220.20.90.30, 7220.20.90.60, 7220.90.00.10, 7220.90.00.15, 7220.90.00.60, and 7220.90.00.80. Although the HTSUS numbers are provided for convenience and for customs purposes, Commerce's written description of the merchandise is dispositive.⁶

⁶ For a full description of the scope of the Order, see Preliminary Decision Memorandum.

Methodology

Commerce is conducting this review in accordance with sections 751(a)(1)(B) and (2) of the Tariff Act of 1930, as amended (the Act). Commerce has preliminarily relied entirely upon facts otherwise available with adverse inferences for Lien Kuo and S More.

For a full description of the methodology underlying our conclusions, see the Preliminary Decision Memorandum. A list of the topics discussed in the Preliminary Decision Memorandum is attached as an appendix to this notice. The Preliminary Decision Memorandum is a public document and is on file electronically via Enforcement and Compliance's Antidumping and Countervailing Duty Centralized Electronic Service System (ACCESS). ACCESS is available to registered users at https://access.trade.gov. In addition, a complete version of the Preliminary Decision Memorandum can be accessed directly at https://access.trade.gov/public/FRNoticesListLayout.aspx.

Preliminary Determination of No Shipments

Four companies under review, Yieh Mau Corporation (Yieh Mau); Yieh Phui Enterprise Co., Ltd. (Yieh Phui); Yieh United Steel Corporation (YUSCO); and Yuen Chang Stainless Steel Co., Ltd. (Yuen Chang), filed statements reporting that they made no sales or exports of subject merchandise to the United States during the POR.⁷ We were able to confirm Yieh Mau's, Yieh Phui's, and Yuen Chang's claims with U.S. Customs and Border Protection (CBP).⁸ Consequently, we preliminarily determine that Yieh Mau, Yieh Phui, and Yuen Chang had no shipments during the POR. Consistent with Commerce's practice, we find that it is not appropriate to rescind the review with respect to these companies, but rather to complete the review and issue appropriate instructions to CBP based on the final results of this review.⁹

⁷ See Yieh Mau's Letter, “No Shipment Certification,” dated October 4, 2022; see also Yieh Phui's Letter, “No Shipment Certification,” dated October 4, 2022; Yuen Chang's Letter, “No Shipment Certification,” dated October 4, 2022; and YUSCO's Letter, “No Shipment Certification,” dated October 4, 2022.

⁸ See Memorandum, “No Shipment Inquiry with Respect to the Companies Below During the Period 07/01/2021 through 06/30/2022,” dated January 30, 2023.

⁹ See Antidumping and Countervailing Duty Proceedings: Assessment of Antidumping Duties, 68 FR 23954 (May 6, 2003).

We also attempted to confirm YUSCO's claim with CBP; however, after review of the CBP data on the record of this case, we requested additional information from CBP related to certain POR entries of merchandise that may have been produced by YUSCO. In December 2022, Commerce placed these entry documents on the record.¹⁰ In January 2023, we requested that YUSCO provide additional information related to its no-shipments claim, and we requested additional information from YUSCO's counsel related to the entry documents on the record.¹¹ In this same month, YUSCO and its counsel, respectively, responded to these requests.¹² Based on our analysis of the information on the record of this review, we also preliminarily determine that YUSCO had no shipments of subject merchandise during the POR because there is no information on the record to contradict YUSCO's no shipments certification. Therefore, consistent with our practice, we also will not rescind the review with respect to YUSCO; rather, we will complete the review and issue appropriate instructions to CBP based on the final results of this review. For further discussion, see the Preliminary Decision Memorandum at “Preliminary Determination of No Shipments.”

¹⁰ See Memorandum, “Release of U.S. Customs and Border Protection Information,” dated December 13, 2022.

¹¹ See Commerce's Letters, “2021-2022 Administrative Review of the Antidumping Duty Order on Stainless Steel Sheet and Strip in Coils, from Taiwan,” both dated January 6, 2023.

¹² See YUSCO's Letters, “Supplemental Response Re: CBP Entry Documentation,” and “Response to the Department's January 6, 2023 Letter,” both dated January 20, 2023.

Rate for Non-Selected Companies

The Act and Commerce's regulations do not address the rate to be applied to companies not selected for individual examination when Commerce limits its examination in an administrative review pursuant to section 777A(c)(2) of the Act. Generally, Commerce looks to section 735(c)(5) of the Act, which provides instructions for calculating the all-others rate in a market economy investigation, for guidance when calculating the rate for companies that were not selected for individual examination in an administrative review. Under section 735(c)(5)(A) of the Act, the all-others rate is normally “an amount equal to the weighted average of the estimated weighted-average dumping margins established for exporters and producers individually investigated, excluding any zero or de minimis margins, and any margins determined entirely {on the basis of facts available}.”

Section 735(c)(5)(B) further provides if the estimated weighted average dumping margins established for all exporters and producers individually investigated are zero, de minimis, or are determined entirely by application of facts available, Commerce may use any reasonable method to establish the estimated all-others rate for exporters and producers not individually investigated, including averaging the estimated weighted average dumping margins determined for the exporters and producers individually investigated. The SAA further states that, “{t}he expected method in such cases will be to weight-average the zero and de minimis margins and margins determined pursuant to the facts available, provided that volume data is available.” ¹³ However, the SAA also instructs that, “if this {expected} method is not feasible, or if it results in an average that would not be reasonably reflective of potential dumping margins for non-investigated exporters or producers, Commerce may use other reasonable methods” to calculate the rate for the companies not selected for individual examination in this review.¹⁴

¹³ See Statement of Administrative Action Accompanying the Uruguay Round Agreements Act, H.R. Doc. 103-316, vol. 1 (1994) (SAA) at 873.

¹⁴ Id.; see also Albemarle Corp. v. United States, 821 F.3d 1345, 1352 (Fed. Cir. 2016) (explaining that if the “expected method” is “not feasible” or the method “results in an average that would not be reasonably reflective of potential dumping margins for non-investigated exporters or producers,” Commerce may, instead, “use other reasonable methods.”).

We preliminarily based the weighted-average dumping margins for Lien Kuo and S More, the mandatory respondents in this review, entirely on facts otherwise available with adverse inferences (AFA), as discussed in the Preliminary Decision Memorandum. Further, we preliminarily find that the mandatory respondents' total AFA dumping margin of 21.10 percent is not reasonably reflective of the non-selected companies' potential dumping margins during the POR because, in the most recently completed segment of this proceeding, the rate assigned to the mandatory respondent was 0.00 percent and the rate assigned to the non-selected companies was 4.30 percent.¹⁵ Therefore, we preliminarily assigned the rate most recently assigned to the non-selected companies in this proceeding (i.e., 4.30 percent) to the non-selected companies in this review. For additional information, see the Preliminary Decision Memorandum at “Companies Not Selected for Individual Examination.”

¹⁵ See Stainless Steel Sheet and Strip in Coils from Taiwan: Final Results of Antidumping Duty Administrative Review, 75 FR 76700 (December 9, 2010).

Preliminary Results of the Review

As a result of this review, we preliminarily determine that the following estimated weighted-average dumping margins exist for the period July 1, 2021, through June 30, 2021:

Exporter/producer | Weighted- average dumping margin (percent)
Lien Kuo Metal Industries Co., Ltd | 21.10
S More Steel Materials Co., Ltd | 21.10
Companies Not Individually Examined ¹⁶ | 4.30

Disclosure

Normally, Commerce discloses to interested parties the calculations performed in connection with a preliminary determination within five days of any public announcement or, if there is no public announcement, within five days of the date of publication of the notice of preliminary determination in the Federal Register, in accordance with 19 CFR 351.224(b). However, because Commerce preliminarily applied total AFA to the individually examined companies, Lien Kuo and S More, in this administrative review, and the applied AFA rate is based on a rate calculated for a respondent in a prior segment of this proceeding, there are no calculations to disclose.

¹⁶ See Appendix II for a full list of companies not individually examined in this review.

Public Comment

Interested parties may submit case briefs or other written comments to Commerce no later than 30 days after the date of publication of this notice.¹⁷ Rebuttal briefs, limited to issues raised in the case briefs, may be filed no later than seven days after the time limit for filing case briefs.¹⁸ Parties who submit case briefs or rebuttal briefs in this proceeding are encouraged to submit with each argument: (1) a statement of the issue; (2) a brief summary of the argument; and (3) a table of authorities.¹⁹ Case and rebuttal briefs should be filed using ACCESS.²⁰ Note that Commerce has temporarily modified certain of its requirements for serving documents containing business proprietary information, until further notice.²¹

¹⁷ See 19 CFR 351.309(c).

¹⁸ See Temporary Rule Modifying AD/CVD Service Requirements Due to Covid-19; Extension of Effective Period, 85 FR 41363 (July 10, 2020) (Temporary Rule).

¹⁹ See 19 CFR 351.309(c)(2) and (d)(2).

²⁰ See 19 CFR 351.303.

²¹ See Temporary Rule.

Pursuant to 19 CFR 351.310(c), interested parties who wish to request a hearing must submit a written request to the Acting Assistant Secretary for Enforcement and Compliance, U.S. Department of Commerce, filed electronically via ACCESS within 30 days after publication of this notice.²² Hearing requests should contain: (1) the party's name, address, and telephone number; (2) the number of participants; and (3) a list of issues to be discussed. Oral presentations at the hearing will be limited to issues raised in the briefs. If a request for a hearing is made, Commerce intends to hold the hearing at a date and time to be determined.²³ Parties should confirm by telephone the date and time of the hearing two days before the scheduled date. An electronically filed document must be received successfully in its entirety by ACCESS by 5:00 p.m. Eastern Time on the established deadline.

²² See 19 CFR 351.310(c).

²³ See 19 CFR 351.310(d).

Commerce intends to issue the final results of this administrative review, including the results of its analysis raised in any written briefs, not later than 120 days after the publication date of this notice, pursuant to section 751(a)(3)(A) of the Act, unless otherwise extended.²⁴

²⁴ See section 751(a)(3)(A) of the Act.

Assessment Rates

Upon completion of the administrative review, Commerce shall determine, and CBP shall assess, antidumping duties on all appropriate entries covered by this review.²⁵

²⁵ See 19 CFR 351.212(b).

For the companies that were not selected for individual review, we intend to assign an assessment rate based on the methodology described in the “Rate for Non-Selected Companies” section, above. The final results of this review shall be the basis for the assessment of antidumping duties on entries of merchandise covered by the final results of this review and for future deposits of estimated duties, where applicable.²⁶

²⁶ See section 751(a)(2)(C) of the Act.

Commerce's “automatic assessment” practice will apply to entries of subject merchandise during the POR produced by companies included in these final results of review for which the reviewed companies did not know that the merchandise they sold to the intermediary (e.g., a reseller, trading company, or exporter) was destined for the United States. In such instances, we will instruct CBP to liquidate unreviewed entries at the all-others rate if there is no rate for the intermediate company(ies) involved in the transaction.²⁷

²⁷ For a full discussion of this practice, see Antidumping and Countervailing Duty Proceedings: Assessment of Antidumping Duties, 68 FR 23954 (May 6, 2003).

Further, if we continue to find in the final results that Yieh Mau, Yieh Phui, Yuen Chang, and YUSCO had no shipments of subject merchandise during the POR, we will instruct CBP to liquidate any suspended entries that entered under their AD case number (i.e., at that exporter's rate) at the all-others rate if there is no rate for the intermediate company(ies) involved in the transaction.

Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

The following deposit requirements will be effective for all shipments of subject merchandise entered, or withdrawn from warehouse, for consumption on or after the publication date of the final results of this administrative review, as provided by section 751(a)(2)(C) of the Act: (1) the cash deposit rate for the exporters listed above will be that established in the final results of this review, except if the rate is less than 0.50 percent and, therefore, de minimis within the meaning of 19 CFR 351.106(c)(1), in which case the cash deposit rate will be zero; (2) for previously reviewed or investigated companies not participating in this review, the cash deposit rate will continue to be the company-specific rate published for the most recently-completed segment of this proceeding in which the company was reviewed; (3) if the exporter is not a firm covered in this review or previous segment, but the manufacturer is, then the cash deposit rate will be the rate established for the most recently-completed segment for the manufacturer of the subject merchandise; and (4) the cash deposit rate for all other producers or exporters will continue to be 12.61 percent, the all-others rate established in the less-than-fair-value investigation.²⁸ These deposit requirements, when imposed, shall remain in effect until further notice.

²⁸ See Order.

Notification to Importers

This notice serves as a reminder to importers of their responsibility under 19 CFR 351.402(f) to file a certificate regarding the reimbursement of antidumping duties prior to liquidation of the relevant entries during this review period. Failure to comply with this requirement could result in Commerce's presumption that reimbursement of antidumping duties occurred and the subsequent assessment of double antidumping duties.

Notification to Interested Parties

We are issuing and publishing these results in accordance with sections 751(a)(1) and 777(i)(1) of the Act.

Dated: March 31, 2023.
Abdelali Elouaradia,
Deputy Assistant Secretary for Enforcement and Compliance.

Appendix I

List of Topics Discussed in the Preliminary Decision Memorandum

I. Summary

II. Background

III. Scope of the Order

IV. Preliminary Determination of No Shipments

V. Companies Not Selected for Individual Examination

VI. Discussion of the Methodology: Application of Facts Available and Use of Adverse Inference

A. Application of Facts Available

B. Application of Facts Available With an Adverse Inference

C. Selection and Corroboration of the AFA Rate

VII. Recommendation

Appendix II

List of Companies Not Selected for Individual Examination

1. Broad International Resources Ltd.

2. Chain Chon Industrial Co., Ltd.

3. Cheng Feng Plastic Co., Ltd.

4. Chia Far Industrial Factory Co., Ltd.

5. Chien Shing Stainless Co.

6. China Steel Corporation

7. Chung Hung Steel Corp

8. Chyang Dah Stainless Co., Ltd.

9. Dah Shi Metal Industrial Co., Ltd.

10. Da-Tsai Stainless Steel Co., Ltd.

11. DB Schenker (HK) Ltd. Taiwan Branch.

12. DHV Technical Information Co., Ltd.

13. Froch Enterprises Co., Ltd.

14. Gang Jou Enterprise Co., Ltd.

15. Genn Hann Stainless Steel Enterprise Co., Ltd.

16. Goang Jau Shing Enterprise Co., Ltd.

17. Goldioceans International Co., Ltd.

18. Gotosteel Ltd.

19. Grace Alloy Corp.

20. Hung Shuh Enterprises Co., Ltd.

21. Hwang Dah Steel Inc.

22. Jie Jin Stainless Steel Industry Co., Ltd.

23. JJSE Co., Ltd.

24. KNS Enterprise Co., Ltd.

25. Lancer Ent. Co., Ltd.

26. Lien Chy Laminated Metal Co., Ltd.

27. Lih Chan Steel Co., Ltd.

28. Lung An Stainless Steel Ind. Co., Ltd.

29. Master United Corp.

30. Maytun International Corp.

31. NKS Steel Ind. Ltd.

32. PFP Taiwan Co., Ltd.

33. Po Chwen Metal.

34. Prime Rocks Co., Ltd.

35. Shih Yuan Stainless Steel Enterprise Co., Ltd.

36. Silineal Enterprises Co., Ltd.

37. Stanch Stainless Steel Co., Ltd.

38. Ta Chen Stainless Pipe Co., Ltd.

39. Tah Lee Special Steel Co., Ltd.

40. Taiwan Nippon Steel Stainless.

41. Tang Eng Iron Works.

42. Teng Yao Hardware Industrial Co., Ltd.

43. Tibest International Inc.

44. Ton Yi Industrial Corp

45. Tsai See Enterprise Co., Ltd.

46. Tung Mung Development Co., Ltd.²⁹

²⁹ Stainless steel sheet and strip in coils produced and exported by Tung Mung Development Co., Ltd. were excluded from the Order, effective October 16, 2002. See Notice of Amended Final Determination in Accordance with Court Decision of the Antidumping Duty Investigation of Stainless Steel Sheet and Strip in Coils from Taiwan, 69 FR 67311, 67312 (November 17, 2004). Accordingly, the rate assigned for Tung Mung Development Co., Ltd. in this review is only for where the company was the producer or exporter of subject merchandise but not both.

47. Vasteel Enterprises Co., Ltd.

48. Vulcan Industrial Corporation.

49. Wuu Jing Enterprise Co., Ltd.

50. Yc Inox Co., Ltd.

51. Yes Stainless International Co., Ltd.

52. Yieh Trading Corp.

53. Yu Ting Industries Co., Ltd.

54. Yue Seng Industrial Co., Ltd.

55. Yung Fa Steel & Iron Industry Co., Ltd.

[FR Doc. 2023-07247 Filed 4-5-23; 8:45 am]

BILLING CODE 3510-DS-P